DEPARTMENT OF THE INTERIOR

National Park Service

Final Environmental Impact Statement; General Management Plan; Olympic National Park, Clallam, Grays Harbor, Jefferson and Mason Counties, WA; Notice of Approval of Record of Decision

Summary: Pursuant to § 102(2)(C) of the National Environmental Policy Act of 1969 (Pub. L. 91-190, as amended) and the regulations promulgated by the Council on Environmental Quality (40 CFR 1505.2), the Department of the Interior, National Park Service has prepared and approved a Record of Decision (and Statement of Findings for Floodplains) for the Final Environmental Impact Statement (Final EIS) for General Management Plan (GMP) at Olympic National Park. The GMP will serve as a blueprint in guiding park management and research programs over the next 15-20 years. The requisite no-action “wait period” was initiated March 14, 2008, with the Environmental Protection Agency's Federal Register notification of the filing of the Final EIS.

Decision: As soon as practical Olympic National Park will begin to implement the restoration strategies, park operations, and visitor service projects identified and analyzed as the Preferred Alternative (Alternative D) contained in the Final EIS (and which included minor modifications from the course of action as presented in the Draft EIS (released for public review on June 15, 2006). The full range of foreseeable environmental consequences were assessed, and appropriate mitigation measures identified. Both a No Action alternative and two additional “action” alternatives were identified and analyzed. Alternative D was determined to be the “environmentally preferred” course of action.

Copies: Interested parties desiring to review the Record of Decision may obtain a copy by contacting the Superintendent, Olympic National Park, 600 East Park Ave., Port Angeles, WA 98362; or via telephone request at (360) 565-3000.

Dated: August 8, 2008.
Jonathan B. Jarvis,
Regional Director, Pacific West Region.

[FR Doc. E8-26728 Filed 11-10-08; 8:45 am]

BILLING CODE 4310-70-P